DEPARTMENT OF THE INTERIOR

National Park Service

[NPS-PWR-PWRO-18475; PX.P0127341D.00.4]

Draft Environmental Impact Statement, Scorpion Pier Replacement, Santa Cruz Island, Channel Islands National Park, Ventura and Santa Barbara Counties, California

AGENCY: National Park Service, Interior.

ACTION: Notice of availability.

SUMMARY: The National Park Service announces the availability of a Draft Environmental Impact Statement (EIS) for the Scorpion Pier Replacement on Santa Cruz Island, Channel Islands National Park. The Draft EIS analyzes the potential consequences of three alternatives: The No Action Alternative; Alternative 1, which would replace the existing pier in the same location and make road improvements; and Alternative 2, which would construct the new replacement pier south of the existing location and make minor road improvements. The Draft EIS also proposes mitigation measures to minimize the adverse impacts from pier construction or utilization. Road improvements would be more extensive under Alternative 1.

DATES: All comments on the Draft EIS must be postmarked or transmitted not later than 60 days after the date the Environmental Protection Agency publishes notice of filing and release of the EIS in the Federal Register. The National Park Service will hold one public meeting during the comment period—the date, time, and location of the meeting will be announced on http://parkplanning.nps.gov/chis, via local and regional press media, and will also be available by contacting Channel Islands National Park.

ADDRESSES: Regularly updated project information will be available for public review and comment online through the NPS Planning, Environment & Public Comment Web site at http://parkplanning.nps.gov.chis, and in the office of the Superintendent, Channel Islands National Park, 1901 Spinnaker Dr., Ventura, CA 93001. You may submit comments by one of two methods: Mail or hand-deliver comments to Channel Islands National Park, Attn: DEIS—Scorpion Pier Replacement (address above), or you may transmit comments electronically via the Web site noted above. Before including your address, phone number, email address, or other personal identifying information in your comment, you should be aware that your entire comment—including your personal identifying information—may be made publicly available at any time. While you can ask us in your comment to withhold your personal identifying information from public review, we cannot guarantee that we will be able to do so.

FOR FURTHER INFORMATION CONTACT: Mr. Russell Galipeau, Superintendent, Channel Islands National Park, 1901 Spinnaker Dr., Ventura, CA 93001; russell_galipeau@nps.gov; (805) 658-5702.

SUPPLEMENTARY INFORMATION: Channel Islands National Park includes five remote islands spanning 2,228 square miles of land and sea. Santa Cruz Island, Scorpion Anchorage, is the most visited destination within the Park. The existing pier needs to be replaced in order to improve safety and accessibility, allowing all visitors to move safely from vessels to the pier, and providing easy access to the adjacent shoreline, the historic Scorpion Ranch and visitor center, restrooms, orientation displays, campground, and hiking trails.

The need for the Project is driven by the following factors: (1) Scorpion Pier should provide safe access to Santa Cruz Island. The existing pier is deteriorating and does not meet NPS requirements for administrative use or safe visitor access. The access road to the current location also requires frequent rebuilding. The current height of the pier cannot sufficiently accommodate high and low tides; as such, vessel operators have difficulty docking without compromising risk to individuals, vessels, and the pier itself. The embarkation process requires passengers to climb—one person at a time, often while carrying a backpack—a single ladder that is not compliant with standards for accessibility.

(2) Scorpion Pier should facilitate efficient access to Santa Cruz Island that accommodates visitor demand. The existing pier and access road significantly weaken the efficiency of NPS operations. The one-person ladder needed for embarkation, for example, lengthens the entire boarding process and increases visitor exposure to adverse weather conditions. The narrow width of the pier also causes delays because it cannot simultaneously accommodate visitors and large cargo (i.e., maintenance vehicles); as such, passenger embarkation must occur separately from many maintenance activities. Additionally, the lack of adequate armoring in the area increases the need for regular and expensive repairs to the eroding access road. Improvement of the pier and access road is necessary to meet current and future visitor demands.

(3) Scorpion Pier and the access roadway should be operated in a manner that protects sensitive resources. The access road is extremely susceptible to harsh weather conditions, and is often washed out by Scorpion Creek when it floods. Maintenance of the existing pier access road currently requires repairing and re-grading several times per year due to wave and storm erosion. As a result of these ground-disturbing activities, sensitive archaeological resources may be threatened. Ongoing re-construction can also impact the environment through air emissions, erosion, and possible pollutants to waterways and sensitive habitats.

(4) Scorpion Pier should provide access to Santa Cruz Island in consideration of predicted sea level rise. The predicted rise in sea level must be considered in the new pier design. Current predictions range from 0.33 foot to 1.1 foot by the year 2050, and 0.74 foot to 3.2 feet by 2100. Anticipated sea level rise has implications for the new pier design, as well as for the dynamics of Scorpion Creek during large storm events.

Accordingly, the range of alternatives which have been developed will fulfill the following key project objectives:

• Improve visitor experience.

• Improve the pier while protecting marine and terrestrial environments and archeological resources.

• Improve access for NPS and concessioner boats.

• Improve passenger, cargo, and operations circulation.

• Preserve historic landscape qualities and visual character of Scorpion Ranch.

• Improve efficiency and sustainability.

Decision Process: Following due consideration of all public and agency comments received, a Final EIS will be prepared and released for public inspection during a 30 day no-action period. The official responsible for approval of the pier replacement project is the Regional Director, Pacific West Region. Subsequently the official responsible for implementing the approved project and for monitoring results is the Superintendent, Channel Islands National Park.

Dated: June 5, 2015.
Patricia L. Neubacher,
Acting Regional Director, Pacific West Region.

Note: The Office of the Federal Register received this document on October 6, 2015.

[FR Doc. 2015-25786 Filed 10-8-15; 8:45 am]

BILLING CODE 4312-FF-P